Title 3—

The President

Proclamation 10498 of November 18, 2022

National Family Week, 2022

By the President of the United States of America

A Proclamation

During National Family Week, we celebrate the power of family, whose love and dreams for the future have made this Nation strong for generations.

For me and the First Lady, family is everything. That is why, from day one, my Administration's top priority has been to build an economy that works for working families. Our American Rescue Plan provided families with thousands of dollars each in stimulus checks and tax credits, slashing child poverty by nearly half and cutting food insecurity by a quarter. It helped to reopen schools, easing the burden on overstretched parents, and it gave every American access to free COVID-19 vaccines so families separated by the pandemic could finally be together. Last summer, I signed the Bipartisan Infrastructure Law to rebuild roads, bridges, ports, and public transit—reviving communities and creating good-paying jobs to raise a family on. This law is replacing lead pipes in homes and schools so every child in America has clean drinking water. It is expanding broadband internet so no child has to sit in a fast-food parking lot to get Wi-Fi for their homework. It is building resilient infrastructure in flood- and fire-prone areas, protecting family homes from the threat of climate change.

I also signed the historic Inflation Reduction Act, capping annual prescription drug costs for seniors on Medicare at $2,000. We are lowering the cost of hearing aids and making them available over the counter, saving millions of Americans with hearing loss up to $3,000 per pair. We are working to ban “junk fees”—those unfair, hidden charges that companies stick you with, like surprise overdraft charges or extreme credit-card late fees that take real money from the pockets of American families. We have also taken historic action to ease the burden of crippling student debt as working families continue to recover from the strains associated with the COVID-19 pandemic. This summer, we passed the first major gun safety bill in nearly 30 years, taking on the epidemic of gun violence that has ripped too many families apart. And we are working across the Government to finally get military and veteran families the benefits and support they deserve.

The past few years have been tough, but there are so many bright spots to give us hope and optimism. Economic growth and real incomes are up. Inflation and gas prices are down. We have created a record number of jobs with historically low unemployment. We have seen a record number of new businesses, and manufacturing is booming. American families' net worth is greater now than before the pandemic. Fewer families are behind on mortgages or credit card bills and more have health insurance. We have much more to do—providing affordable childcare, paid family leave, and home care for seniors, for instance—but American families are already seeing the benefits of an economy built from the bottom up and middle out.

My dad had an expression: Family is the beginning, middle, and end. May the power of family continue to be a blessing and a great strength of our Nation.

NOW, THEREFORE, I, JOSEPH R. BIDEN JR., President of the United States of America, by virtue of the authority vested in me by the Constitution and the laws of the United States, do hereby proclaim November 20 through November 26, 2022, as National Family Week. I invite States, communities, and individuals to join together in observing this week with appropriate ceremonies and activities to honor our Nation's families.

IN WITNESS WHEREOF, I have hereunto set my hand this eighteenth day of November, in the year of our Lord two thousand twenty-two, and of the Independence of the United States of America the two hundred and forty-seventh.

[FR Doc. 2022-25737

Filed 11-22-22; 8:45 am]

Billing code 3395-F3-P